DEPARTMENT OF AGRICULTURE

Forest Service

DEPARTMENT OF THE INTERIOR

Bureau of Land Management

[223.LLIDI00000.L1330000.EO0000.241A]

Notice of Availability of the Final Environmental Impact Statement for the Proposed Husky 1 North Dry Ridge Phosphate Mine, Caribou County, ID

AGENCY: Forest Service, Agriculture (USDA); Bureau of Land Management, Interior.

ACTION: Notice of availability.

SUMMARY: In compliance with the National Environmental Policy Act of 1969, as amended and the Federal Land Policy and Management Act of 1976, as amended, the Bureau of Land Management (BLM) and the U.S. Department of Agriculture, Forest Service (USFS) Caribou-Targhee National Forest (CTNF), announce the availability of the Final Environmental Impact Statement (EIS) for the proposed Husky 1 North Dry Ridge Phosphate Mine (Project).

DATES: The Final EIS and the USFS Draft Record of Decision (ROD) are now available for public review. A 45-day objection period for the USFS Draft ROD will start when the USFS publishes a legal notice in the newspaper of record. The BLM will not issue a decision on the proposal for a minimum of 30 days after the date that the Environmental Protection Agency (EPA) publishes its Notice of Availability (NOA) in the Federal Register. The USFS will issue a Final ROD following resolution of any objections.

ADDRESSES: The Final EIS and documents pertinent to this proposal are available for review on the BLM ePlanning project website at https://go.usa.gov/x7HSJ; the Caribou-Targhee National Forest Current and Recent Projects at http://www.fs.usda.gov/projects/ctnf/landmanagement/projects; or at the BLM Pocatello Field Office at 4350 Cliffs Drive, Pocatello, ID 83204.

FOR FURTHER INFORMATION CONTACT: Wes Gilmer, BLM Pocatello Field Office, 4350 Cliffs Drive, Pocatello, ID 83204; phone (208) 478-6369; email: wgilmer@blm.gov; fax (208) 478-6376. Individuals in the United States who are deaf, deafblind, hard of hearing, or have a speech disability may dial 711 (TTY, TDD, or TeleBraille) to access telecommunications relay services for contacting Mr. Gilmer. Individuals outside the United States should use the relay services offered within their country to make international calls to the point-of-contact in the United States.

SUPPLEMENTARY INFORMATION: Itafos Conda LLC (Itafos) submitted a proposed mine and reclamation plan (MRP) for the Husky 1 North Dry Ridge Phosphate Mine to conduct operations and recover phosphate ore from existing leases (IDI-8289, IDI-05549, I-04, and IDI-0678). The MRP proposes surface mining, support and reclamation activities on approximately 1,146 acres of mostly National Forest System (NFS) land. A modification (enlargement by 559 acres) of Federal phosphate lease IDI-05549 to recover adjacent ore reserves that would otherwise be bypassed and rendered unmineable in the future is also requested.

The BLM, the Federal lease administrator, is the lead agency, and the USFS, the Federal land management agency, is the co-lead agency. The United States Army Corps of Engineers, Idaho Department of Environmental Quality, Idaho Department of Lands and Idaho Governor's Office of Energy and Mineral Resources are cooperating agencies.

The NOA for the Draft EIS was published on October 22, 2021 (86 FR 58686), initiating a 45-day public comment period that ended on December 6, 2021. Agencies, organizations and individual stakeholders provided comments on the Draft EIS via mail, email and through the project website.

Comments on the Draft EIS received from the public were considered and incorporated as appropriate into the Final EIS. Public comments resulted in the addition of clarifying text and two new alternatives but did not significantly change the proposed action or predicted impacts of the proposal.

The Final EIS addresses issues identified during scoping and public review of the Draft EIS by analyzing impacts to the human and natural environment including water resources, air quality, health and safety, socioeconomics and wildlife. It also addresses reclamation, financial assurance, mitigation and monitoring. The Final EIS considers a range of alternatives and evaluates several in detail: the proposed action, an alternative cover, an alternative stream routing, two alternative access routes, an alternative sequence of mining and the No Action alternative. The agencies' preferred alternative combines four alternatives that modify the proposed action to be more protective of natural resources, including: alternative cover that reduces impacts to surface water and ground water by reducing infiltration of meteoric water into waste rock; alternative stream routing to limit long-term impacts to Stewart Creek by returning it permanently to its natural channel after mining; alternative access Option 2 that permanently relocates NFS Road 134 to maintain public and tribal access to the site and through NFS lands; and the alternative mine sequence in which mining would begin in the North Dry Ridge area prior to developing the Husky 1 area.

The BLM and USFS will make separate but coordinated decisions related to the Project. The BLM will either approve, approve with modifications, or deny the MRP; and decide whether to modify lease IDI-05549. The BLM will base its decisions on the Final EIS; public, Tribal, and agency input; and any recommendations that the USFS may have regarding surface management of leased NFS lands. The USFS will make recommendations to the BLM concerning surface management and best management practices on leased lands within the CTNF and issue decisions on approval of proposed special use authorizations (SUAs) for off-lease mining support activities and the alternative access. The USFS SUAs are necessary for any off-lease disturbances or structures associated with the Project located within the CTNF. The reroute of the Simplot slurry line, which crosses the proposed mine operations, will require an amendment of the Caribou National Forest Revised Land and Resource Management Plan (2003 Revised Forest Plan (RFP)).

The portion of the Project related to proposed USFS SUAs for off-lease activities, the selection of the alternative access and the amendment of the 2003 RFP are subject to the objection process pursuant to 36 CFR 218 subparts A and B. Instructions for filing objections will be provided in the legal notice published in the newspaper of record for the USFS Draft ROD. Objections will be accepted only from those who have previously submitted specific written comments regarding the proposed project, either during scoping or other designated opportunities for public comment, in accordance with 36 CFR 218.5. Issues raised in objections must be based on previously submitted, timely and specific written comments regarding the proposed project, unless based on new information arising after designated opportunities.

(Authority: 36 CFR 218; 40 CFR 1506.6, 40 CFR 1506.10; 43 CFR 46; and 43 CFR 3590.)

Mary D'Aversa,
Idaho Falls District Manager, Bureau of Land Management.
Melvin Bolling,
Forest Supervisor, Caribou-Targhee National Forest.

[FR Doc. 2022-25048 Filed 11-17-22; 8:45 am]

BILLING CODE 4310-GG-P